DEPARTMENT OF COMMERCE

[I.D. 051101C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: South Pacific Tuna Act.

Form Number(s): None.

OMB Approval Number: 0648-0218.

Type of Request: Regular submission.

Burden Hours: 430.

Number of Respondents: 32.

Average Hours Per Response: 15 minutes for a license application, 30 minutes for a registration application, 15 minutes for a vessel monitoring system application, 1 hour for a catch report, 30 minutes for an unloading logsheet, 4 hours to install a vessel monitoring system, 24 seconds a day for position reports from a vessel monitoring system, and 2 hours per year to maintain a vessel monitoring system.

Needs and Uses: NOAA collects license, registration, catch, and unloading information from tuna vessels fishing within a large region of the Pacific Ocean governed by the “Treaty on Fisheries Between the Governments of Certain Pacific Island States and the Government of the United States.” Vessel monitoring systems are also required to provide automated position reports. The information collected is needed to meet obligations under that treaty.

Affected Public: Business and other for-profit organizations.

Frequency: On occasion, weekly, and annually.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: May 10, 2001.
Madeleine Clayton,
Departmental Paperwork Clearance Officer, Office of the Chief Information Officer.

[FR Doc. 01-12482 Filed 5-16-01; 8:45 am]

BILLING CODE 3510-22-S